DEPARTMENT OF ENERGY

Federal Energy Regulatory Commission

Combined Notice of Filings #1

Take notice that the Commission received the following electric rate filings:

Docket Numbers: ER15-704-024.

Applicants: Pacific Gas and Electric Company.

Description: Compliance filing: CCSF Compliance filing (ER15-704-017, ER15-704-018) (Mar 2021) to be effective 7/23/2015.

Filed Date: 3/31/21.

Accession Number: 20210331-5004.

Comments Due: 5 p.m. ET 4/21/21.

Docket Numbers: ER15-704-025.

Applicants: Pacific Gas and Electric Company.

Description: Compliance filing: CCSF Compliance Filing (ER15-704-017, ER15-704-018) (Mar 2021) to be effective 7/1/2015.

Filed Date: 3/31/21.

Accession Number: 20210331-5005.

Comments Due: 5 p.m. ET 4/21/21.

Docket Numbers: ER19-2916-003.

Applicants: Calpine Mid-Merit II, LLC.

Description: Report Filing: Refund Report—Informational Filing to be effective N/A.

Filed Date: 3/31/21.

Accession Number: 20210331-5072.

Comments Due: 5 p.m. ET 4/21/21.

Docket Numbers: ER20-1425-001.

Applicants: Jersey Central Power & Light Company.

Description: Notice of Non-Material Change in Status of Jersey Central Power & Light Company.

Filed Date: 3/30/21.

Accession Number: 20210330-5394.

Comments Due: 5 p.m. ET 4/20/21.

Docket Numbers: ER21-1047-001.

Applicants: Southwestern Public Service Company.

Description: Tariff Amendment: SPS-GSEC-IA-Faria-Deferral of Action Ltr to be effective 12/31/9998.

Filed Date: 3/31/21.

Accession Number: 20210331-5282.

Comments Due: 5 p.m. ET 4/21/21.

Docket Numbers: ER21-1370-001.

Applicants: Assembly Solar II, LLC.

Description: Tariff Amendment: Normal docket update to be effective 4/15/2021.

Filed Date: 3/31/21.

Accession Number: 20210331-5292.

Comments Due: 5 p.m. ET 4/21/21.

Docket Numbers: ER21-1562-000.

Applicants: AEP Indiana Michigan Transmission Company, Inc., PJM Interconnection, L.L.C.

Description: § 205(d) Rate Filing: AEP submits IMTCo & NIPSCO Interconnection Agreement SA No. 4247 to be effective 3/5/2021.

Filed Date: 3/30/21.

Accession Number: 20210330-5278.

Comments Due: 5 p.m. ET 4/20/21.

Docket Numbers: ER21-1563-000.

Applicants: Midcontinent Independent System Operator, Inc., Otter Tail Power Company.

Description: § 205(d) Rate Filing: 2021-03-31_OTP Attachment O and MM Filing to be effective 6/1/2021.

Filed Date: 3/31/21.

Accession Number: 20210331-5009.

Comments Due: 5 p.m. ET 4/21/21.

Docket Numbers: ER21-1564-000.

Applicants: Midcontinent Independent System Operator, Inc., Entergy Services, LLC.

Description: § 205(d) Rate Filing: 2021-03-31_Entergy Attach O Filing re 2020 Storms to be effective 6/1/2021.

Filed Date: 3/31/21.

Accession Number: 20210331-5045.

Comments Due: 5 p.m. ET 4/21/21.

Docket Numbers: ER21-1565-000.

Applicants: Southwest Power Pool, Inc.

Description: § 205(d) Rate Filing: 3215R9 People's Electric Cooperative NITSA NOAs to be effective 3/1/2021.

Filed Date: 3/31/21.

Accession Number: 20210331-5059.

Comments Due: 5 p.m. ET 4/21/21.

Docket Numbers: ER21-1566-000.

Applicants: Southwest Power Pool, Inc.

Description: § 205(d) Rate Filing: 2969R2 Associated Electric Cooperative, Inc. NITSA NOA to be effective 3/1/2021.

Filed Date: 3/31/21.

Accession Number: 20210331-5077.

Comments Due: 5 p.m. ET 4/21/21.

Docket Numbers: ER21-1567-000.

Applicants: Southwest Power Pool, Inc.

Description: § 205(d) Rate Filing: 1148R30 American Electric Power NITSA and NOA to be effective 3/1/2021.

Filed Date: 3/31/21.

Accession Number: 20210331-5093.

Comments Due: 5 p.m. ET 4/21/21.

Docket Numbers: ER21-1568-000.

Applicants: Tri-State Generation and Transmission Association, Inc.

Description: Order No. 890 compliance filing of Tri-State Generation and Transmission Association, Inc.

Filed Date: 3/30/21.

Accession Number: 20210330-5400.

Comments Due: 5 p.m. ET 4/20/21.

Docket Numbers: ER21-1569-000.

Applicants: Mid-Atlantic Interstate Transmission, LLC, PJM Interconnection, L.L.C.

Description: § 205(d) Rate Filing: MAIT submits revised IA SA No. 4578 to be effective 5/31/2021.

Filed Date: 3/31/21.

Accession Number: 20210331-5148.

Comments Due: 5 p.m. ET 4/21/21.

Docket Numbers: ER21-1570-000.

Applicants: New England Power Pool Participants Committee.

Description: § 205(d) Rate Filing: April 2021 Membership Filing to be effective 4/1/2021.

Filed Date: 3/31/21.

Accession Number: 20210331-5151.

Comments Due: 5 p.m. ET 4/21/21.

Docket Numbers: ER21-1571-000.

Applicants: California Independent System Operator Corporation.

Description: Tariff Cancellation: 2021-03-31 Notice of Termination of RC Service Agreement with Gridforce to be effective 4/1/2021.

Filed Date: 3/31/21.

Accession Number: 20210331-5170.

Comments Due: 5 p.m. ET 4/21/21.

Docket Numbers: ER21-1572-000.

Applicants: Avista Corporation.

Description: § 205(d) Rate Filing: Avista Corp LT Firm PTP Agreements to be effective 7/1/2021.

Filed Date: 3/31/21.

Accession Number: 20210331-5174.

Comments Due: 5 p.m. ET 4/21/21.

Docket Numbers: ER21-1573-000.

Applicants: Midcontinent Independent System Operator, Inc.

Description: § 205(d) Rate Filing: 2021-03-31_SA 3647 Ameren-Hickory Solar FSA (J644) to be effective 5/31/2021.

Filed Date: 3/31/21.

Accession Number: 20210331-5189.

Comments Due: 5 p.m. ET 4/21/21.

Docket Numbers: ER21-1574-000.

Applicants: Arizona Public Service Company.

Description: Tariff Cancellation: Service Agreement No. 381—Notice of Cancellation to be effective 5/31/2021.

Filed Date: 3/31/21.

Accession Number: 20210331-5209.

Comments Due: 5 p.m. ET 4/21/21.

Docket Numbers: ER21-1575-000.

Applicants: Midcontinent Independent System Operator, Inc.

Description: § 205(d) Rate Filing: 2021-03-31_Attachment FF Affidavit Requirement Filing to be effective 5/31/2021.

Filed Date: 3/31/21.

Accession Number: 20210331-5266.

Comments Due: 5 p.m. ET 4/21/21.

Docket Numbers: ER21-1576-000.

Applicants: Tri-State Generation and Transmission Association, Inc., Southwest Power Pool, Inc.

Description: § 205(d) Rate Filing: Tri-State Generation and Transmission Association, Inc. Formula Rate to be effective 6/1/2021.

Filed Date: 3/31/21.

Accession Number: 20210331-5271.

Comments Due: 5 p.m. ET 4/21/21.

Docket Numbers: ER21-1577-000.

Applicants: Midcontinent Independent System Operator, Inc.

Description: § 205(d) Rate Filing: 2021-03-31_SA 3271 Bondurant-Montezuma 345kV 1st Rev MPFCA (J499 J500 J527) to be effective 3/17/2021.

Filed Date: 3/31/21.

Accession Number: 20210331-5290.

Comments Due: 5 p.m. ET 4/21/21.

The filings are accessible in the Commission's eLibrary system (https://elibrary.ferc.gov/idmws/search/fercgensearch.asp) by querying the docket number

Any person desiring to intervene or protest in any of the above proceedings must file in accordance with Rules 211 and 214 of the Commission's Regulations (18 CFR 385.211 and 385.214) on or before 5:00 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202 502-8659.

Dated: March 31, 2021.
Nathaniel J. Davis, Sr.,
Deputy Secretary.

[FR Doc. 2021-07112 Filed 4-6-21; 8:45 am]

BILLING CODE 6717-01-P